ENVIRONMENTAL PROTECTION AGENCY

[FRL-10003-89-Region 9]

Public Water System Supervision Program Revision for the State of Nevada

AGENCY: Environmental Protection Agency (EPA).

ACTION: Notice of tentative approval.

SUMMARY: Notice is hereby given that the State of Nevada revised its approved Public Water System Supervision (PWSS) Program under the federal Safe Drinking Water Act (SDWA) by adopting the Lead & Copper Rule Minor and Short-Term Revisions. The Environmental Protection Agency (EPA) has determined that these revisions by the State of Nevada are no less stringent than the corresponding Federal regulations and otherwise meet applicable SDWA primacy requirements. Therefore, the EPA intends to approve these revisions to the State of Nevada's PWSS Program.

DATES: Request for a public hearing must be received on or before February 5, 2020.

ADDRESSES: All documents relating to this determination are available for inspection between the hours of 8:30 a.m. and 4:00 p.m., Monday through Friday, except official State holidays and official Federal holidays, at the following offices: Nevada Department of Environmental Protection, Admin Office, 901 South Stewart Street, Suite 4001, Carson City, NV 89701; United States Environmental Protection Agency, Region 9, Drinking Water Section, 75 Hawthorne Street (WTR4-1), San Francisco, CA 94105.

Documents relating to this determination are also available online at https://ndep.nv.gov/posts/category/public-notices for inspection.

FOR FURTHER INFORMATION CONTACT: Jacob Jenzen, EPA Region 9, Drinking Water Section, at the Region 9 address provided above; via telephone at (415) 972-3570; or via email address at Jenzen.Jacob@epa.gov.

SUPPLEMENTARY INFORMATION: Background. The EPA approved the State of Nevada's original application for PWSS program primary enforcement authority on February 27, 1978 (43 FR 8030). Primacy states such as Nevada must adopt and submit for approval to EPA all new and revised national primary drinking water regulations. Since that initial approval, EPA has worked with Nevada to review and approve various revisions to Nevada's primacy program. For the revisions covered by this action, the EPA promulgated revisions to the Federal Lead and Copper Rule with the Minor Revisions on January 12, 2000 (65 FR 1950) and the Short-Term Revisions on October 10, 2007 (72 FR 5778). Nevada originally incorporated by reference the requirements of the federal Lead and Copper Rule, 40 CFR part 141 Subpart I, directly into the Nevada Administrative Code (NAC), and EPA approved those revisions on July 21, 1996 (61 FR 29748). Nevada updated the NAC with a rulemaking made effective July 22, 2010 that expanded the incorporation by reference of the Federal Lead and Copper Rule to include the Minor and Short-Term Revisions, with language sufficient to meet the federal requirements. These are the primacy revisions that the EPA Region 9 tentatively approves as part of the Nevada's PWSS Program.

Public Process. Any interested party may request a public hearing on this determination. A request for a public hearing must be submitted by February 5, 2020, to the Regional Administrator of EPA Region 9, to the address shown above. The Regional Administrator may deny frivolous or insubstantial requests for a hearing. If a substantial request for a public hearing is made by February 5, 2020, EPA Region 9 will hold a public hearing. Any request for a public hearing shall include the following information: 1. The name, address, and telephone number of the individual, organization, or other entity requesting a hearing; 2. A brief statement of the requesting person's or organization's interest in the Regional Administrator's determination and a brief statement of the information that the requesting person intends to submit at such hearing; and 3. The signature of the individual making the request, or, if the request is made on behalf of an organization or other entity, the signature of a responsible official of the organization or other entity.

If EPA Region 9 does not receive a timely and substantive request for a hearing and the Regional Administrator does not elect to hold a hearing on his own motion, the determination at issue in this notice, the EPA's approval shall become final and effective on February 5, 2020, and no further public notice will be issued.

Authority: Section 1413 of the Safe Drinking Water Act, 42 U.S.C. 300g-2 (1996), and 40 CFR part 142 of the National Primary Drinking Water Regulations.

Dated: December 17, 2019.
Deborah Jordan,
Acting Regional Administrator, EPA, Region 9.

[FR Doc. 2019-28441 Filed 1-3-20; 8:45 am]

BILLING CODE 6560-50-P